DEPARTMENT OF TRANSPORTATION

Federal Aviation Administration

14 CFR Part 39

[Docket No. FAA-2007-26797; Directorate Identifier 2006-NM-195-AD; Amendment 39-14878; AD 2006-20-14]

RIN 2120-AA64

Airworthiness Directives; Empresa Brasileira de Aeronautica S.A. (EMBRAER) Model ERJ 170 and ERJ 190 Airplanes

AGENCY: Federal Aviation Administration (FAA), Department of Transportation (DOT).

ACTION: Final rule; request for comments.

SUMMARY: This document publishes in the Federal Register an amendment adopting airworthiness directive (AD) 2006-20-14 that was sent previously to all known U.S. owners and operators of certain EMBRAER Model ERJ 170 and ERJ 190 airplanes by individual notices. This AD requires modification of certain flight deck door electronic equipment. This AD is prompted by a report indicating that this equipment is defective. We are issuing this AD to prevent failure of this equipment, which could jeopardize flight safety.

DATES: This AD becomes effective January 16, 2007 to all persons except those persons to whom it was made immediately effective by AD 2006-20-14, issued October 10, 2006, which contained the requirements of this amendment.

We must receive comments on this AD by March 12, 2007.

ADDRESSES: Use one of the following addresses to submit comments on this AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590.

• Fax: (202) 493-2251.

• Hand Delivery: Room PL-401 on the plaza level of the Nassif Building, 400 Seventh Street, SW., Washington, DC, between 9 a.m. and 5 p.m., Monday through Friday, except Federal holidays.

For service information identified in this AD, contact Empresa Brasileira de Aeronautica S.A. (EMBRAER), P.O. Box 343—CEP 12.225, Sao Jose dos Campos—SP, Brazil.

FOR FURTHER INFORMATION CONTACT: Tom Groves, Aerospace Engineer, International Branch, ANM-116, FAA, Transport Airplane Directorate, 1601 Lind Avenue, SW., Renton, Washington 98057-3356; telephone (425) 227-1503; fax (425) 227-1149.

SUPPLEMENTARY INFORMATION: On October 10, 2006, we issued emergency AD 2006-20-14, which applies to certain EMBRAER Model ERJ 170 and ERJ 190 airplanes. AD 2006-20-14 was sent to affected operators having airplanes that have certain affected flight deck door electrical equipment.

Background

We have received a report indicating that certain flight deck door electrical equipment is defective. The defect, if not corrected, could result in a failure of the equipment, which could jeopardize flight safety.

Relevant Service Information

EMBRAER has issued Service Bulletin 170-52-0029, dated August 21, 2006 (for Model ERJ 170 airplanes); and Service Bulletin 190-52-0011, dated August 21, 2006 (for Model ERJ 190 airplanes). The service bulletins describe procedures for correcting the defect in the flight deck door electrical equipment. Accomplishing the actions specified in the service information is intended to adequately address the unsafe condition. The Agência Nacional de Aviacão Civil (ANAC), which is the airworthiness authority for Brazil, approved these service bulletins.

FAA's Determination and Requirements of This AD

These airplane models are manufactured in Brazil and are type certificated for operation in the United States under the provisions of section 21.29 of the Federal Aviation Regulations (14 CFR 21.29) and the applicable bilateral airworthiness agreement. Pursuant to this bilateral airworthiness agreement, the ANAC has kept the FAA informed of the situation described above. We have evaluated all pertinent information and determined that we need to issue an AD for products of this type design that are certificated for operation in the United States.

Since the unsafe condition described is likely to exist or develop on other airplanes of the same type design, we issued emergency AD 2006-20-14 to prevent failure of certain flight deck door electronic equipment, which could jeopardize flight safety. The AD requires modifying the flight deck door electronic equipment using a method approved by the Manager, International Branch, ANM-116, Transport Airplane Directorate, FAA. The applicable EMBRAER service bulletin previously described has been approved for this purpose.

We found that immediate corrective action was required; therefore, notice and opportunity for prior public comment thereon were impracticable and contrary to the public interest, and good cause existed to make the AD effective immediately by individual notices issued on October 10, 2006, to all known U.S. owners and operators of certain EMBRAER Model ERJ 170 and ERJ 190 airplanes. These conditions still exist, and the AD is hereby published in the Federal Register as an amendment to section 39.13 of the Federal Aviation Regulations (14 CFR 39.13) to make it effective to all persons. We are publishing this AD to ensure that, in the event that persons who did not receive an individual notice acquire an affected airplane that has not been modified, these persons are aware of the AD, so they can make the necessary modification.

Interim Action

This is considered to be interim action until final action is identified, at which time we may consider further rulemaking.

Clarification of Alternative Method of Compliance (AMOC) Paragraph

We have revised this action to clarify the appropriate procedure for notifying the principal inspector before using any approved AMOC on any airplane to which the AMOC applies.

Comments Invited

This AD is a final rule that involves requirements that affect flight safety and was not preceded by notice and an opportunity for public comment; however, we invite you to submit any relevant written data, views, or arguments regarding this AD. Send your comments to an address listed in the ADDRESSES section. Include “Docket No. FAA-2007-26797; Directorate Identifier 2006-NM-195-AD” at the beginning of your comments. We specifically invite comments on the overall regulatory, economic, environmental, and energy aspects of the AD that might suggest a need to modify it.

We will post all comments we receive, without change, to http://dms.dot.gov, including any personal information you provide. We will also post a report summarizing each substantive verbal contact with FAA personnel concerning this AD. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If this emergency regulation is later deemed significant under DOT Regulatory Policies and Procedures, we will prepare a final regulatory evaluation and place it in the AD Docket. See the ADDRESSES section for a location to examine the regulatory evaluation, if filed.

List of Subjects in 14 CFR Part 39

Air transportation, Aircraft, Aviation safety, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2006-20-14 Empresa Brasileira de Aeronautica S.A. (EMBRAER): Amendment 39-14878. Docket No. FAA-2007-26797; Directorate Identifier 2006-NM-195-AD.

Effective Date

(a) This AD becomes effective January 16, 2007, to all persons except those persons to whom it was made immediately effective by AD 2006-20-14, issued on October 10, 2006, which contained the requirements of this amendment.

Affected ADs

(b) None.

Applicability

(c) This AD applies to EMBRAER Model ERJ 170-100 LR, -100 STD, -100 SE, -100 SU, -200 STD, -200 LR, and -200 SU airplanes, and Model ERJ 190-100 STD, -100 LR, and -100 IGW airplanes; certificated in any category; as identified in EMBRAER Service Bulletins SB No. 170-52-0029 and SB No. 190-52-0011, both dated August 21, 2006.

Unsafe Condition

(d) This AD results from a report indicating that this equipment is defective. We are issuing this AD to prevent failure of this equipment, which could jeopardize flight safety.

Compliance

(e) You are responsible for having the actions required by this AD performed within the compliance times specified, unless the actions have already been done.

Transfer of Airplane and Requirement To Inform New Operator of This AD

(f) When an operator of an affected airplane sells or otherwise transfers the airplane to another operator, the new operator must be informed of this AD in a manner consistent with the procedures found in 49 CFR part 15.

Replacement

(g) Within 60 days after the effective date of this AD, modify the flight deck door electronic equipment in accordance with a method approved by the Manager, International Branch, ANM-116, Transport Airplane Directorate, FAA. Doing all actions in the Accomplishment Instructions of the applicable EMBRAER service bulletin identified in Table 1 of this AD is one approved method; except where the applicable service bulletin specifies to send the removed flight deck door electronic equipment to the manufacturer in paragraph 3.C., that action is not necessary.

Table 1.—Service Bulletins
For model— | EMBRAER service bulletin—
(1) ERJ 170 airplanes | 170-52-0029, dated August 21, 2006.
(2) ERJ 190 airplanes | 190-52-0011, dated August 21, 2006.

Parts Installation

(h) As of the effective date of this AD, no person may install on any airplane any cockpit door control panel identified in paragraph 1.A. of the applicable service bulletin in Table 1 of this AD.

Alternative Methods of Compliance (AMOCs)

(i)(1) The Manager, International Branch, ANM-116, Transport Airplane Directorate, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Issued in Renton, Washington, on December 21, 2006.
Ali Bahrami,
Manager, Transport Airplane Directorate, Aircraft Certification Service.

[FR Doc. E7-147 Filed 1-9-07; 8:45 am]

BILLING CODE 4910-13-P